DEPARTMENT OF AGRICULTURE

Forest Service

Idaho Panhandle National Forest, Idaho—Supplemental Hidden Cedar EIS Project

AGENCY: Forest Service, USDA.

ACTION: Notice of intent to prepare a Supplemental Environmental Impact Statement.

SUMMARY: The USDA Forest Service will prepare a Supplemental Environmental Impact Statement (SEIS) for the Hidden Cedar Project. The Notice of Availability of the Draft EIS for the Hidden Cedar project was published Federal Register (66 FR 29799) on June 1, 2001 and the notice of the Final EIS (67 FR 47538-47539) was published on July 19, 2002. The Record of Decision on this project was administratively appealed to the Regional Forester per 36 CFR part 215. The Regional Forester affirmed my decision on September 27, 2002. However, due to information that has been identified since the availability of the final EIS and ROD I have determined a need for a supplement. On May 18, 2005, I withdrew the Record of Decision for the Hidden Cedar project. The purpose for the withdrawal was to further address analysis issues raised through the recent opinion issued through the U.S. Court of Appeals for the Ninth Circuit in Lands Council v. Powell, 395 F.3d 1015-1046 (9th Cir. 2005).

DATES: Scoping is not required for supplements to environmental impact statements (40 CFR 1502.9(c)(4)). There was extensive public involvement in the development of the proposed action, the 2001 Draft EIS and the 2002 Final EIS and the Forest Service is not inviting comments at this time.

ADDRESSES: St. Joe Ranger District, 222 South 7th Street Suite 1, St. Maries, Idaho 83861.

FOR FURTHER INFORMATION CONTACT: Pete Ratcliffe—Hidden Cedar Supplement Project Team Leader, USDA Forest Service, St. Joe Ranger District, 208-245-2531.

SUPPLEMENTARY INFORMATION: The Hidden Cedar ROD was released at the same time as the Final EIS and the legal notice of decision was published June 29, 2002. The ROD selected alternative F and authorized vegetative treatments on approximately 1300 acres through a combination of intermediate silvicultural prescriptions and regeneration harvest treatments, and an estimated 615 acres of precommercial thinning. Approximately 5.3 miles of road construction, 2.0 miles temporary road construction, and 4.6 miles of road reconstruction is necessary to complete the vegetation treatments. To improve watershed conditions the decommissioning of an estimated 37.5 miles of existing roads, planting 30 acres of riparian habitat, and increasing large woody debris in 1.2 miles of stream channel was authorized. In accordance with the Alaska National Interest Lands Conservation Act (ANILCA) and in order to provide access to private/State Lands and maintain roads for development and utilization I authorized the construction of 2.4 miles of road and the reconstruction of 3.5 miles of road on Forest Service administered lands. The Record of Decision was appealed. Following administrative review, the decision was affirmed and the appellant's requested relief denied by the Appeal Deciding Officer for the Northern Region of the USDA Forest Service on September 27, 2002. On April 21, 2003, Lands Council filed a lawsuit for a temporary restraining order and preliminary injunction. In light of the lawsuit the Forest Service elected to not proceed with any ground disturbing activities related to timber harvesting or road construction. However, large woody debris placement, approximately 12 miles of the road decommissioning, and 25 acres of riparian planting was competed.

The Supplemental EIS will contain additional information relating to past and reasonably foreseeable timber harvest activities, particularly on the surrounding private properties, water quality and fisheries analysis, soil conditions, stands of old growth trees, and wildlife analysis methodologies. The SEIS is intended to provide additional evaluation of the natural resources listed above and provide that information to the public.

The purpose and need for the Hidden Cedar project includes considerations for vegetation, water quality, fish habitat, wildlife security, and access to private lands. The vegetation goal is to manage for vegetative conditions that are more suitable to a fire-dependent ecosystem and, in the long term, encourage more resilient and sustainable forest conditions. This includes reducing stand densities, improve stocking levels and growing conditions, promote retention of larger sized trees, and improve the species composition and structure of selected stands through timber harvest to increase early seral species such as western larch and white pine and encourage one and two-aged stand structures, moving vegetation towards historical conditions. The goal for water quality, fish habitat, and wildlife security is to address the transportation system for protection of lands and resources. The goal for access management is to provide access to private lands and maintain roads for forest development and utilization.

Responsible Official

Ranotta K. McNair, Forest Supervisor, Idaho Panhandle National Forests, 3815 Schreiber Way, Coeur D'Alene, Idaho 83815.

Comments

A Draft SEIS is expected to the public for review and comment in February 2006; and a Final SEIS in April 2006. The mailing list for this project will include those individuals, agencies, and organizations on the mailing list for the 2002 Draft Hidden Cedar EIS.

The comment period on the Draft Supplemental Environmental Impact Statement will be 45 days from the date the Environmental Protection Agency publishes the Notice of Availability in the Federal Register. In accordance with 36 CFR 215.5, as published in the Federal Register, Volume 68 no. 107, June 4, 2003, the Draft Supplemental EIS comment period will be the designated time in which “substantive” comments will be considered. In addition, the public is encouraged to contact or visit the Forest Service officials during the analysis and prior to the decision. The Forest Service will continue to seek information, comments, and assistance from Federal, Tribal, State, and local agencies and other individuals or organizations that may be interested in or affected by the proposed actions.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 comment period so that substantive comments and objections are made available to the Forest Service at a time when it can meaningfully consider them and respond to them in the final supplemental environmental impact statement.

To assist the Forest Service in identifying and considering issues and concerns on the proposed action, comments on the draft supplemental environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addressees of those who comment, will be considered part of the public record on this proposal and will be available for public inspection.

The Idaho Panhandle National Forests Supervisor will make a decision on the project after considering comments and responses, environmental consequences discussed in the Final Supplemental EIS, and applicable laws, regulations and policies. The decision and supporting reasons will be documented in a Record of Decision.

(Authority: 40 CFR 1501.7 and 1508.22; Forest Service Handbook 1909.15, Section 21)

Dated: November 14, 2005.
Ranotta K. McNair,
Forest Supervisor, Idaho Panhandle National Forests.

[FR Doc. 05-22968 Filed 11-18-05; 8:45am]

BILLING CODE 3410-11-M